LEGAL SERVICES CORPORATION

Sunshine Act Meeting

Notice

DATE AND TIME: The Legal Services Corporation's Board of Directors and its six committees will meet April 12-14, 2015. On Sunday, April 12, the first meeting will commence at 2 p.m., Eastern Standard Time (EST), with the meeting thereafter commencing promptly upon adjournment of the immediately preceding meeting. On Monday, April 13, the first meeting will commence at 9 a.m., EST, with the next meeting commencing at 10:15 a.m., EST, and the meeting thereafter commencing promptly upon adjournment of the immediately preceding meeting. On Tuesday, April 14, the first meeting will commence at 9 a.m., EST, and it will be followed by the closed session meeting of the Board of Directors which will commence promptly upon adjournment of the first meeting.

LOCATION: 3333 K Street NW., 3rd. Floor, F. William McCalpin Conference Center, Washington, DC 20007.

PUBLIC OBSERVATION: Unless otherwise noted herein, the Board and all committee meetings will be open to public observation. Members of the public who are unable to attend in person but wish to listen to the public proceedings may do so by following the telephone call-in directions provided below.

CALL-IN DIRECTIONS FOR OPEN SESSIONS:

• Call toll-free number: 1-866-451-4981;

• When prompted, enter the following numeric pass code: 5907707348;

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule
| Time *
Sunday, April 12, 2015:
1. Operations & Regulations Committee | 2 p.m.
Monday, April 13, 2015:
1. Finance Committee | 9 a.m.
2. Delivery of Legal Services Committee
3. Governance & Performance Review Committee
4. Audit Committee
5. Institutional Advancement Committee
Tuesday, April 14, 2015:
1. Board of Directors | 9 a.m.
* Please note that all times in this notice are in the Eastern Standard Time.

STATUS OF MEETING: Open, except as noted below.

Board of Directors—Open, except that, upon a vote of the Board of Directors, a portion of the meeting may be closed to the public to hear briefings by management and LSC's Inspector General, and to consider and act on the General Counsel's report on potential and pending litigation involving LSC, and a list of prospective funders and prospective members of the Leaders Council.**

**Any portion of the closed session consisting solely of briefings does not fall within the Sunshine Act's definition of the term “meeting” and, therefore, the requirements of the Sunshine Act do not apply to such portion of the closed session. 5 U.S.C. 552b(a)(2) and (b). See also 45 CFR 1622.2 & 1622.3.

Institutional Advancement Committee—Open, except that, upon a vote of the Board of Directors, the meeting may be closed to the public to consider and act on a recommendation of new prospective donors and of prospective members of the Leaders Council to the Board of Directors.**

Audit Committee—Open, except that the meeting may be closed to the public to hear briefings on the following matters: The Office of Compliance and Enforcement's active enforcement matter(s) and the Office of Information Technology audit.**

Governance and Performance Review Committee—Open, except that the meeting may be closed to the public to consider and act on a recommendation of new prospective funders.**

A verbatim written transcript will be made of the closed sessions of the Board, Institutional Advancement Committee, Audit Committee and Governance and Performance Review Committee meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

April 12, 2015

Operations & Regulations Committee

1. Approval of agenda

2. Approval of minutes of the Committee's meeting of January 22, 2015

3. Consider and act on Notice of Proposed Rulemaking for 45 CFR 1610.7—Transfers of LSC Funds and 45 CFR 1627—Subgrants and Membership Fees or Dues

• Ron Flagg, General Counsel

• Stefanie Davis, Assistant General Counsel

• Mark Freedman, Senior Assistant General Counsel

4. Consider and act on Rulemaking Options Paper and Notice of Proposed Rulemaking for 45 CFR part 1628—Recipient Fund Balances

• Ron Flagg, General Counsel

• Stefanie Davis, Assistant General Counsel

5. Consider and act on Final Rule for 45 CFR part 1640—Application of Federal Law to LSC Recipients

• Ron Flagg, General Counsel

• Stefanie Davis, Assistant General Counsel

• Laurie Tarantowicz, Assistant Inspector General and Legal Counsel

• Sarah Anderson, Law Fellow

• Public Comment

6. Report on Program Letters 15-1 and 15-2 regarding 45 CFR part 1607 Governing Bodies

• Ron Flagg, Vice President & General Counsel

• Stefanie Davis, Assistant General Counsel

7. Annual report on enforcement mechanism

• Jim Sandman, President

• Mark Freedman, Senior Assistant General Counsel

8. Update on comments on population data for grants to serve agricultural and migrant farmworkers

• Ron Flagg, General Counsel

• Bristow Hardin, Program Analyst

9. Update on performance management and human capital management

• Jim Sandman, LSC President

• Traci Higgins, Director of Human Resources

10. Other public comment

11. Consider and act on other business

12. Consider and act on adjournment of meeting

April 13, 2015

Finance Committee

1. Approval of agenda

2. Approval of minutes of the Committee's meeting on January 23, 2015

3. Presentation of the LSC's Financial Report for the first five months of FY 2015

4. Consider and act on LSC's Revised Consolidated Operating Budget for FY 2015, Resolution 2015-0XX

• Presentation by David Richardson, Treasurer/Comptroller

5. Report on the FY 2016 appropriations process

• Carol Bergman, Director of Government Relations & Public Affairs

6. Management discussion regarding process and timetable for FY 2017 Budget

• Carol Bergman, Director of Government Relations & Public affairs

7. Public comment

8. Consider and act on other business

9. Consider and act on adjournment of meeting

Delivery of Legal Services Committee

1. Approval of Agenda

2. Approval of minutes of the Committee's meeting on January 23, 2015

3. Presentation on grantee oversight by the Office of Program Performance

a. Grantee Visits

b. Program Quality Visit Recommendations

c. Post-Program Quality Visit and Grantee Application Reviews

d. Special Grant Conditions

• Lynn Jennings, Vice President for Grants Management

• Janet LaBella, Director, Office of Program Performance

4. Public comment

5. Consider and act on other business

6. Consider and act on motion to adjourn the meeting

Governance and Performance Review Committee

Open Session

1. Approval of agenda

2. Approval of minutes of the Committee's January 22, 2015 meeting

3. Report on GAO inquiry

• Carol Bergman, Director of Government Relations & Public Affairs

4. Report on Public Welfare Foundation grant, Midwest Disaster Preparedness Grant, and LSC's research agenda

• Jim Sandman, President

5. Report on evaluations of LSC Comptroller, Vice President for Grants Management, and LSC's research agenda

• Jim Sandman, President

6. Report on sources of authority governing LSC board actions

7. Consider and act on other business

8. Public comment

9. Consider and act on motion to adjourn meeting

Closed Session

10. Consider and act on prospective funders for research projects

• Jim Sandman, President

Audit Committee

Open Session

1. Approval of agenda

2. Approval of minutes of the Committee's January 22, 2015 meeting

3. Briefing by Office of Inspector General

• Jeffrey Schanz, Inspector General

4. Management update regarding risk management

• Ron Flagg, General Counsel

5. Briefing about referrals by the Office of Inspector General to the Office of Compliance and Enforcement including matters from the annual Independent Public Accountants audits of grantees

• Lora Rath, Director of compliance and Enforcement

6. Consider and act on other

Closed Session

7. Approval of minutes of the Committee's January 22, 2015 meeting

8. Briefing by Office of Compliance and Enforcement on active enforcement matters and follow-up on open investigation referrals from the Office of Inspector General

• Lora Rath, Director of Compliance and Enforcement

9. Update on Office of Information Technology Audit

• Peter Campbell

10. Consider and act on adjournment of meeting

Institutional Advancement Committee

Open Session

1. Approval of agenda

2. Approval of minutes of the Committee's meeting of January 22, 2015

3. Update on development activities

4. Consider and act on LSC's Minnesota Charitable Organization Annual Form, Resolution 2015-XXX

5. Public comment

6. Consider and act on other business

7. Adjourn open session

Closed Session

8. Consider and act on agenda

9. Approval of minutes of the Committee's Closed Session telephonic meeting of March 6, 2015

10. Consider and act on prospective donors

11. Consider and act on prospective Leaders Council members

12. Development report

13. Consider and act on adjournment of meeting

April 14, 2015

Board of Directors

Open Session

1. Pledge of Allegiance

2. Approval of agenda

3. Approval of minutes of the Board's Open Session meeting of January 24, 2015

4. Chairman's Report

5. Members' Report

6. President's Report

7. Inspector General's Report

8. Consider and act on the report of the Finance Committee

9. Consider and act on the report of the Audit Committee

10. Consider and act on the report of the Operations and Regulations Committee

11. Consider and act on the report of the Governance and Performance Review Committee

12. Consider and act on the report of the Institutional Advancement Committee

13. Consider and act on the report of the Delivery of Legal Services Committee

14. Report on implementation of recommendations of the Pro Bono Task Force Report and the Pro Bono Innovation Fund

15. Public comment

16. Consider and act on other business

17. Consider and act on whether to authorize an executive session of the Board to address items listed below, under Closed Session

Closed Session

18. Approval of minutes of the Board's Closed Session of January 24, 2015

22. Management Briefing

23. Inspector General Briefing

24. Consider and act on General Counsel's report on potential and pending litigation involving LSC

25. Consider and act on list of prospective funders

26. Consider and act on prospective members of Leaders' Council

27. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: April 2, 2015.
Katherine Ward,
Executive Assistant to the Vice President for Legal Affairs, General Counsel & Corporate Secretary.

[FR Doc. 2015-08019 Filed 4-3-15; 11:15 am]

BILLING CODE CODE 7050-01-P